DEPARTMENT OF TRANSPORTATION

Surface Transportation Board

[Docket No. FD 35845]

Union Pacific Railroad Company—Temporary Trackage Rights Exemption—BNSF Railway Company

BNSF Railway Company (BNSF), pursuant to a written trackage rights agreement dated June 25, 2014, has agreed to grant overhead temporary trackage rights to Union Pacific Railroad Company (UP), over approximately 691.5 miles of rail line extending between milepost 0.0 (near Houston, Tex.) and milepost 335.7 (near Amarillo, Tex.) on BNSF's Mykawa, Galveston, Lampasas, Slaton, Plainview, and Hereford subdivisions.¹ The trackage rights are granted for the sole purpose of allowing UP to bridge its train service while UP's main lines are impacted due to the Tower 55 construction project in Ft. Worth, Tex.

¹ UP states that the temporary trackage rights cross several BNSF subdivisions and the beginning and ending mileposts therefore do not equal 691.5 miles. UP submitted a map displaying the route between the beginning and ending mileposts.

The transaction may be consummated on or after August 1, 2014, and the temporary trackage rights are scheduled to expire on September 30, 2014.

As a condition to this exemption, any employees affected by the acquisition of the temporary trackage rights will be protected by the conditions imposed in Norfolk and Western Railway—Trackage Rights—Burlington Northern, Inc., 354 I.C.C. 605 (1978), as modified in Mendocino Coast Railway—Lease and Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

This notice is filed under 49 CFR 1180.2(d)(8). If it contains false or misleading information, the exemption is void ab initio. Petitions to revoke the exemption under 49 U.S.C. 10502(d) may be filed at any time. The filing of a petition to revoke will not automatically stay the effectiveness of the exemption. Petitions for stay must be filed no later than July 25, 2014 (at least 7 days before the exemption becomes effective).

An original and 10 copies of all pleadings, referring to Docket No. FD 35845, must be filed with the Surface Transportation Board, 395 E Street SW., Washington, DC 20423-0001. In addition, a copy of each pleading must be served on Jeremy M. Berman, 1400 Douglas St., Union Pacific Railroad Company, STOP 1580, Omaha, NE 68179.

Board decisions and notices are available on our Web site at “WWW.STB.DOT.GOV.”

Decided: July 14, 2014.
By the Board, Rachel D. Campbell, Director, Office of Proceedings.
Raina S. White,
Clearance Clerk.

[FR Doc. 2014-16878 Filed 7-17-14; 8:45 am]

BILLING CODE 4915-01-P